NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

Time and Date: Monday, June 5, 2006 from 10:30 a.m. to 12 p.m.

Agenda: Committee Meetings of the Eighth National Museum and Library Service Board Meeting:

10:30 a.m.-12 p.m. Joint Meeting of the Committees on Partnerships & Government Affairs and the Committee on Policy & Planning.

(Open to the Public)

I. Staff Reports.

II. Other Business.

2 p.m.-3:30 p.m. Jury Meeting to consider the National Awards for Museum Services.

(Closed to the Public)

4 p.m.-5:30 p.m. Jury Meeting to consider the National Awards for Library Services.

(Closed to the Public)

Place: The meetings will be held at the Institute of Museum and Library Services, 1800 M Street, NW., 9th Floor, Washington, DC 20036. Telephone: (202) 653-4676.

Time and Date: Tuesday, June 6, 2006, from 9 a.m. to 1 p.m.

Agenda: Eighth National Museum and Library Services Board Meeting: (Open to the Public)

I. Welcome.

II. Approval of Minutes.

III. Program Reports.

IV. Committee Reports.

V. Board Program: Big Read Initiative.

VI. Other Business.

VII. Adjournment.

Place: The meeting will be held at the Institute of Museum and Library Services, 1800 M Street, NW., 9th Floor, Washington, DC 20036. Telephone: (202) 653-4676.

Status: Parts of this meeting will be closed to the public as identified in the meeting agenda and supplementary information. The rest of the meeting will be open to the public.

FOR FURTHER INFORMATION CONTACT: Elizabeth Lyons, Special Assistant to the Director, Institute of Museum and Library Services, 1800 M Street, NW., 9th Floor, Washington, DC 20036. Telephone: (202) 653-4676.

SUPPLEMENTARY INFORMATION: The National Museum and Library Services Board is established under the Museum and Library Services Act, 20 U.S.C. 9101 et seq. The Board advises the Director of the Institute on general policies with respect to the duties, powers, and authorities related to Museum and Library Services.

The Jury Meetings to Consideration the National Awards for Museum and Library Services, on Monday, June 5, 2006, will be closed pursuant to subsections (c)(4) and (c)(9) of section 552b of Title 5, United States Code because the Board will consider information that may disclose: Trade secrets and commercial or financial information obtained from a person and privileged or confidential; and information the premature disclosure of which would be likely to significantly frustrate implementation of a proposed agency action. The meetings from 10:30 a.m. until 12 p.m. on Monday, June 5, 2006 and the meeting from 9 a.m. to 1 p.m. on Tuesday, June 6, 2006, are open to the public. If you need special accommodations due to a disability, please contact: Institute of Museum and Library Services, 1100 Pennsylvania Avenue, NW., Washington, DC 20506. Telephone: (202) 653-4676; TDD (202) 653-4699 at least seven (7) days prior to the meeting date.

Dated: May 17, 2006.
Kate Fernstrom,
Chief of Staff.

[FR Doc. 06-4804 Filed 5-19-06; 10:22 am]

BILLING CODE 7036-01-M